DEPARTMENT OF INTERIOR

National Park Service

[NPS-WASO-BSD-CONC-20037; PPWOBSADC0, PPMVSCS1Y.Y00000 (166)]

Proposed Information Collection; Commercial Use Authorizations

Agency: National Park Service, Interior.

Action: Notice and request for comments.

SUMMARY: We (National Park Service, NPS) will ask the Office of Management and Budget (OMB) to approve the information collection described below. As required by the Paperwork Reduction Act of 1995 and as part of our continuing efforts to reduce paperwork and respondent burden, we invite the general public and other Federal agencies to take this opportunity to comment on this IC. This IC is scheduled to expire on August 31, 2016. We may not conduct or sponsor and a person is not required to respond to a collection of information unless it displays a valid OMB control number.

DATES: To ensure we are able to consider your comments, we must receive them on or before March 11, 2016.

ADDRESSES: Please send your comments on the ICR to Madonna L. Baucum, Information Collection Clearance Officer, National Park Service, 12201 Sunrise Valley Drive, Room 2C114, Mail Stop 242, Reston, VA 20192 (mail); or madonna_baucum@nps.gov (email). Please reference OMB Control Number “1024-0268, CUA” in the subject line of your comments.

FOR FURTHER INFORMATION CONTACT: Samantha Towery, National Park Service, 12795 West Alameda Parkway, Lakewood, CO 80228; by fax at 303/987-6901; or via email at Samantha_Towery@nps.gov.

SUPPLEMENTARY INFORMATION:

I. Abstract

The purpose of this information collection is to assist the NPS in managing the Commercial Use Authorization Program. Conducting commercial operations in a unit of the National Park System without a contract, permit, commercial use authorization, or some other written agreement is prohibited. Section 418, Public Law 105-391 (54 U.S.C. 101925) gives the Secretary of the Interior the authority to authorize a private person, corporation, or other entity to provide services to visitors in units of the National Park System through a Commercial Use Authorization (CUA). Such authorizations are not considered concession contracts. We authorize commercial operations that originate and operate entirely within a park (in-park); commercial operations that provide services originating and terminating outside of the park boundaries; organized children's camps, outdoor clubs, and nonprofit institutions; and other uses as the Secretary determines appropriate. The commercial operations include a range of services, such as mountain climbing guides, boat repair services, transportation services and tours, canoe livery operations, hunting guides, retail sales, equipment rentals, catering services, and dozens of other visitor services.

Section 418 limits CUAs to:

• Commercial operations with annual gross receipts of not more than $25,000 resulting from services originating and provided solely within a unit of the National Park System;

• Incidental use of resources of the unit by commercial operations which provide services originating and terminating outside of the boundaries of the unit; or

• Uses by organized children's camps, outdoor clubs and nonprofit institutions (including back country use) and such other uses as the Secretary determines appropriate.

The legislative mandate of the NPS, found at 54 U.S.C. 1100101, is to preserve America's natural wonders unimpaired for future generations, while also making them available for the enjoyment of visitors. Meeting this mandate requires the NPS to balance preservation with use. Maintaining a good balance requires both information and limits. The information requested will allow the unit manager to evaluate requests for a commercial use to determine impact on the resources and the appropriateness of the activity.

We collect information on the CUA Application (Form 10-550), the CUA Annual Report (Form 10-660), and CUA Monthly Report (Form 10-660A). We use the information from these forms to:

• Manage the program and operations.

• Determine the qualifications and abilities of the commercial operators to provide a high quality, safe, and enjoyable experience for park visitors.

• Determine the impact on the parks natural and cultural resources.

• Manage the use and impact of multiple operators.

The information requested will allow the NPS to evaluate requests for a commercial use authorization and determine the suitability of the applicants to safely and effectively provide an appropriate service to the visiting public. It will also enable the NPS to manage the activity in a manner that protects the natural and cultural resources and the park visitor. Management includes, but is not limited to, managing the number of permits issued, determining the location and time that the activity occurs, and requiring the appropriate visitor protections including insurance, equipment, training, and procedures.

Regulations resulting in information collection required for a Commercial Use Authorization:

36 CFR 1.6—Permits

36 CFR 2—Resource Protection, Public Use and Recreation

36 CFR 5—Commercial and Private Operations

36 CFR 7—Special Regulations

36 CFR 13—National Park System Units in Alaska

II. Data

OMB Number: 1024-0268.

Title: Commercial Use Authorization.

Form(s): 10-550, “Commercial Use Authorization Application and Instructions”, 10-660, “Commercial Use Authorization Annual Report and Instructions”, and 10-660A, “Commercial Use Authorization Monthly Report and Instructions”.

Type of Request: Extension of a Currently Approved Collection.

Description of Respondents: Respondents will be individuals or small businesses that wish to provide a commercial service to visitors in areas of the National Park System.

Respondent Obligation: Mandatory.

Estimated Total Annual Burden Hours:

| Annual respondents | Total annual responses | Average time per response (hours) | Total annual burden hours
Form 10-550, “Commercial Use Authorization Application and Instructions”
Individual | 100 | 100 | 2.5 | 250
Private Sector | 5,150 | 5,150 | 2.5 | 12,875
Form 10-660, “Commercial Use Authorization Annual Report and Instructions”
Individual | 100 | 100 | 8 | 125
Private Sector | 7,000 | 7,000 | 8 | 8,750
Form 10-660A, “Commercial Use Authorization Monthly Report and Instructions”
Individual | 100 | 900 | .75 | 675
Private Sector | 7,000 | 63,000 | .75 | 47,250
Totals: | 12,350 | 12,350 |  | 69,925

Estimated Annual Nonhour Burden Cost: $525,000 ($100 × 5,250 Forms 10-550, “Commercial Use Authorization Application and Instructions” per year).

III. Comments

We invite comments concerning this information collection on:

• Whether or not the collection of information is necessary, including whether or not the information will have practical utility;

• The accuracy of the burden for this collection of information;

• Ways to enhance the quality, utility, and clarity of the information to be collected; and

• Ways to minimize the burden to respondents, including use of automated information techniques or other forms of information technology.

Please note that the comments submitted in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that it will be done.

Dated: January 4, 2016.
Madonna L. Baucum,
Information Collection Clearance Officer, National Park Service.

[FR Doc. 2016-00333 Filed 1-8-16; 8:45 am]

BILLING CODE 4310-EH-P